FEDERAL COMMUNICATIONS COMMISSION

47 CFR Part 64

[CG Docket Nos. 03-123, FCC 20-105; FRS 17377]

Telecommunications Relay Service Rules Modernization

AGENCY: Federal Communications Commission.

ACTION: Final rule.

SUMMARY: In this document, the Federal Communications Commission (Commission) eliminates two Telecommunications Relay Service (TRS) mandatory minimum standards because they are no longer necessary to provide functional equivalence with voice services, and ceases Federal Register publication of applications for certification of state TRS programs in favor of providing notice on the Commission's website and in its Electronic Document Management System (EDOCS).

DATES: Effective Date: These rules are effective March 25, 2021.

FOR FURTHER INFORMATION CONTACT: William Wallace, Consumer and Governmental Affairs Bureau, at (202) 418-2716, or email William.Wallace@fcc.gov.

SUPPLEMENTARY INFORMATION: This is a summary of the Commission's Report and Order, document FCC 20-105, adopted on August 4, 2020, released on August 5, 2020, in CG Docket No. 03-123. The Commission previously sought comment on these issues in a Further Notice of Proposed Rulemaking (2019 TRS Rules Modernization FNPRM), published at 85 FR 1134, January 9, 2020. The full text of document FCC 20-105 will be available for public inspection and copying via the Commission's Electronic Comment Filing System (ECFS). To request materials in accessible formats for people with disabilities (Braille, large print, electronic files, audio format), send an email to fcc504@fcc.gov, or call the Consumer and Governmental Affairs Bureau at (202) 418-0530.

Congressional Review Act

The Commission sent a copy of document FCC 20-105 to Congress and the Government Accountability Office pursuant to the Congressional Review Act, 5 U.S.C. 801(a)(1)(A).

Final Paperwork Reduction Act of 1995 Analysis

Document FCC 20-105 does not contain new or modified proposed information collection requirements subject to the Paperwork Reduction Act of 1995, Public Law 104-13. In addition, therefore, it does not contain any new or modified information collection burden for small business concerns with fewer than 25 employees, pursuant to the Small Business Paperwork Relief Act of 2002, Public Law 107-198, see 44 U.S.C. 3506(c)(4).

Synopsis

1. The Commission updates certain rules governing telecommunications relay services (TRS) to improve the efficiency and cost-effectiveness of TRS for both TRS providers and users. In keeping with current technology and prevailing offerings in the voice communications market, the Commission repeals the “equal access” and “billing options” requirements for TRS providers. The Commission also ceases Federal Register publication of state requests for TRS program certifications, relying instead on publication of these applications in the Commission's electronic document management system and on its website.

2. Equal Access and Billing Options Requirements. As required by section 225 of the Communications Act (the Act), as amended, 47 U.S.C. 225, the Commission's rules prescribe mandatory minimum standards to ensure that TRS providers offer telephone services for persons with hearing and speech disabilities that are functionally equivalent to voice communication services. The “equal access” rule provides that “TRS users shall have access to their chosen interexchange carrier through the TRS, and to all other operator services to the same extent that such access is provided to voice users,” and the “billing options” requirement directs TRS providers to offer “the same billing options (e.g., sent-paid long distance, operator-assisted, collect, and third party billing) traditionally offered for wireline voice services.”

3. In 2014, the Commission revisited these rules in part. The Commission recognized that the voice communications marketplace had undergone major changes since the rules were adopted in 1991. As a result, consumers of Voice over internet Protocol and mobile telephone services routinely received long distance service as a bundled feature of their service plans, with no separate time- or distance-sensitive fees, eliminating the need for equal access and alternative billing options. The Commission concluded that these features had become unnecessary to ensure functional equivalence for internet-based forms of TRS in cases where the internet-based TRS provider is not charging users for long distance service. As a result, the equal access and billing options requirements currently only apply to the three non-internet-based forms of TRS, which are provided through state programs.

4. Federal Register Publication. Section 225 of the Act provides that states choosing to establish state TRS programs for intrastate service must request and receive certification for such programs from the Commission. Since 1991, the Commission's TRS rules have required that, upon the filing of state certification applications, a notice seeking public comment on such applications shall be published in the Federal Register. In 2000, the Commission established EDOCS, and decided that notice of applications for certification of internet-based forms on TRS would be published in EDOCS and on the Commission's website, with no requirement to publish such notice in the Federal Register.

5. Further Notice of Proposed Rulemaking. In the 2019 TRS Rules Modernization FNPRM, the Commission proposed (1) to repeal the equal access and billing options rules for all TRS providers and (2) to cease Federal Register publication of state TRS certification applications in favor of publication on its website and in EDOCS.

6. Repeal of Equal Access Rule. The Commission repeals the equal access requirement in its entirety. This rule is no longer needed to ensure the functional equivalence of TRS. Because voice customers today typically obtain telephone service by paying a bundled or flat rate without time or distance differentials for long distance calls, the ability to select a long distance provider is no longer an essential aspect of telephone service, and the Commission has terminated equal access requirements for voice service. Further, section 225 of the Act only requires TRS to include equal access “to the same extent that such access is provided to voice users,” and there are few situations in which a TRS provider would be obligated to provide equal access under the current rule, even if a consumer were to request such access.

7. This unnecessary rule also burdens TRS providers with the cost of maintaining an equal access infrastructure, hindering the efficient provision of TRS. Deleting the equal access rule will allow TRS providers to modernize their TRS facilities and discontinue what can be a confusing and time-consuming call setup process.

8. Clarification Regarding Financial Incentives. The Commission clarifies that, when TRS providers allow consumers to make long distance calls without incurring per-minute charges, such offerings do not constitute an impermissible financial incentive for TRS use. In today's marketplace, the widespread bundling of long distance and local calling negates any risk that offering free long distance to TRS users would create an impermissible incentive to make long distance calls. This clarification is limited to the specific issue regarding per-minute charges for long distance service and does not, for example, authorize a TRS provider to reimburse or otherwise assume payment for charges currently assessed on TRS users for internet access or telephone service.

9. Repeal of Billing Options Requirement. The Commission repeals the billing options requirement in its entirety. Alternative billing options are disappearing from the world of voice services, and thus options such as sent-paid long distance and collect, calling card, and third-party billing are no longer essential to ensure that TRS is functionally equivalent to voice service.

10. Eliminating this obligation will relieve TRS providers from any need to maintain obsolete features of circuit-switched networks at a time when they and others within the communications industry have been transitioning to IP-based platforms. In addition to functional equivalence and efficiency, allowing TRS users access to improvements in technology is another one of the Commission's mandates under section 225 of the Act. Repealing the billing options rule will benefit TRS providers and users by allowing technological improvements with no consequential costs or harms to the functional equivalence and efficiency of TRS.

11. Ceasing Federal Register Publication. The Commission deletes the requirement that public notices of applications for certification of state TRS programs be published in the Federal Register. This action will improve the efficiency of the Commission's TRS certification process and conserve administrative resources, and will not conflict with statutory requirements or the Commission's ability to make informed certification decisions. Federal Register publication of state certification applications is not required by section 225 of the Act or the Administrative Procedure Act, 5 U.S.C. 551 et seq. Such certifications do not involve rulemaking, and the Commission's review is conducted based on the documentation submitted by a state, with no adjudicatory hearing ordinarily needed to determine whether a state program merits certification. Moreover, for comparable Commission authorization processes, such as certifications for internet-based TRS providers and common-carrier applications for certificates of “public convenience and necessity,” Federal Register publication is not required unless special circumstances apply.

12. Ceasing Federal Register publication will not prevent or deter public input on state TRS certification proposals. Since this rule was adopted, the Commission has introduced an internet-based document management system, which makes public notices requesting comment on applications (as well as the applications themselves) readily accessible through the Commission's EDOCS and ECFS on the Commission's website. Posting electronic notices of state TRS certification applications via EDOCS and the Commission's website will provide sufficient notice to enable interested members of the public to comment on an application.

Final Regulatory Flexibility Analysis

As required by the Regulatory Flexibility Act of 1980 as amended, the Commission incorporated an Initial Regulatory Flexibility Analysis (IRFA) into the Further Notice of Proposed Rulemaking. The Commission sought written public comment on the proposals in the 2019 TRS Rules Modernization FNPRM, including comment on the IRFA.

Need For, and Objectives of, the Rules

13. Document FCC 20-105 eliminates the outdated equal access and multiple billing options requirements form the TRS mandatory minimum standards and streamlines Commission processes by ceasing Federal Register publications of state requests for TRS program certification, while continuing to publish notice of certification applications in the Commission's electronic document management system and on the Commission's website.

Summary of Significant Issues Raised by Public Comments in Response to the IRFA

14. No comments were filed in response to the IRFA.

Response to Comments by the Chief Counsel for Advocacy of the Small Business Administration

15. The Chief Counsel did not file any comments in response to the proposed rules in this proceeding.

Description and Estimate of the Number of Small Entities to Which the Rules Will Apply

16. The amendments to rules adopted in the Report and Order will affect the obligations of non-internet based TRS providers. These services can be included within the broad economic category of All Other Telecommunications.

Description of Projected Reporting, Recordkeeping, and Other Compliance Requirements

17. Elimination of the equal access and billing options for TRS providers and ceasing Federal Register publication for state TRS program certification applications do not create direct reporting, recordkeeping, or other compliance requirements on TRS providers.

Steps Taken To Minimize Significant Impact on Small Entities, and Significant Alternatives Considered

18. Repeal of the equal access and billing options requirements will reduce the burden on small entities subject to the rule. Such entities would no longer need to provide TRS users with the ability to select their long distance carrier or offer billing options, and the providers would no longer be required to configure their networks for such functionalities. Other small entities would not be affected.

19. Eliminating the requirement for the Commission to publish in the Federal Register notice of applications for certification of state TRS programs will have no impact on small entities because only the Commission is burdened by this obligation.

Ordering Clauses

20. Pursuant to sections 1, 2, and 225 of the Communications Act of 1934, as amended, 47 U.S.C. 151, 152, and 225, document FCC 20-105 is adopted, and the Commission's rules are amended.

21. The Commission's Consumer and Governmental Affairs Bureau, Reference Information Center, shall send a copy of the Report and Order, including the Final Regulatory Flexibility Analysis, to the Chief Counsel for Advocacy of the Small Business Administration.

List of Subjects in 47 CFR Part 64

Individuals with disabilities, Telecommunications, Telecommunications relay services. Federal Communications Commission.

Marlene Dortch,
Secretary, Office of the Secretary.

Final Rules

For the reasons discussed in the preamble, the Federal Communications Commission amends 47 CFR part 64 as follows:

PART 64—MISCELLANEOUS RULES RELATING TO COMMON CARRIERS

1. The authority citation for part 64 continues to read as follows:

Authority: 47 U.S.C. 151, 152, 154, 201, 202, 217, 218, 220, 222, 225, 226, 227, 227b, 228, 251(a), 251(e), 254(k), 262, 276, 403(b)(2)(B), (c), 616, 620, 1401-1473, unless otherwise noted; Pub. L. 115-141, Div. P, sec. 503, 132 Stat. 348, 1091.

2. Amend § 64.604 by revising paragraph (a)(3)(ii) to read as follows and removing and reserving paragraph (b)(3):

§ 64.604 Mandatory Minimum Standards.

* * * * *

(a) * * *

(3) * * *

(ii) Relay services shall be capable of handling any type of call normally provided by telecommunications carriers unless the Commission determines that it is not technologically feasible to do so. Relay service providers have the burden of proving the infeasibility of handling any type of call.

* * * * *

3. Amend § 64.606 by revising paragraph (a)(1) to read as follows:

§ 64.606 internet-based TRS provider and TRS program certification.

(a) * * * (1) Certified state program. Any state, through its office of the governor or other delegated executive office empowered to provide TRS, desiring to establish a state program under this section shall submit documentation to the Commission addressed to the Federal Communications Commission, Chief, Consumer and Governmental Affairs Bureau, TRS Certification Program, Washington, DC 20554, and captioned “TRS State Certification Application.” All documentation shall be submitted in narrative form, shall clearly describe the state program for implementing intrastate TRS, and the procedures and remedies for enforcing any requirements imposed by the state program. The Commission shall give public notice of state applications for certification.

* * * * *

[FR Doc. 2021-00792 Filed 2-22-21; 8:45 am]

BILLING CODE 6712-01-P